FEDERAL ACCOUNTING STANDARDS ADVISORY BOARD

Notice of Meeting Schedule for 2011

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) will meet on the following dates in room 7C13 of the US Government Accountability Office (GAO) Building (441 G St., NW.) unless otherwise noted:

—Wednesday and Thursday, February 23 and 24, 2011

—Wednesday and Thursday, April 27 and 28, 2011

—Wednesday and Thursday, June 22 and 23, 2011

—Wednesday and Thursday, August 24 and 25, 2011

—Wednesday and Thursday, October 26 and 27, 2011

—Monday and Tuesday, December 19 and 20, 2011

The purpose of the meetings are to discuss issues related to:

—FASAB's conceptual framework

—Earmarked Funds

—Property, Plant and Equipment

—Natural Resources

—Deferred Maintenance/Asset Impairment

—Technical Agenda, and

—Any other topics as needed.

Any interested person may attend the meetings as an observer. Board discussion and reviews are open to the public. GAO Building security requires advance notice of your attendance. Please notify FASAB of your planned attendance by calling 202-512-7350 at least one day prior to the respective meeting.

FOR FURTHER INFORMATION CONTACT: Wendy Payne, Executive Director, at (202) 512-7350.

Authority: Federal Advisory Committee Act, Pub. L. 92-463.

Dated: April 13, 2010.
Charles Jackson,
Federal Register Liaison Officer.

[FR Doc. 2010-8832 Filed 4-16-10; 8:45 am]

BILLING CODE 1610-02-P